DEPARTMENT OF COMMERCE

National Oceanic and Atmospheric Administration

50 CFR Part 660

[Docket No. 070430095-7095-01]

RIN 0648-XB09

Fisheries Off West Coast States and in the Western Pacific; Modifications of the West Coast Commercial Salmon Fishery; Inseason Action #3 and #4

AGENCY: National Marine Fisheries Service (NMFS), National Oceanic and Atmospheric Administration (NOAA), Commerce.

ACTION: Modification of fishing seasons, landing and possession limits; request for comments.

SUMMARY: NOAA Fisheries announces that the commercial fishery in the area from the U.S.-Canada Border to Cape Falcon, Oregon and in the area from the U.S.-Canada Border to Leadbetter Point, Washington was modified by two inseason actions. Inseason action #3 in the area from Leadbetter Point to the U.S.-Canada Border decreased the landing and possession limit from 60 to 50 Chinook per vessel per open period. Inseason action #3 also closed commercial fishing in the area from the U.S.-Canada border to Cape Falcon Oregon on June 30, 2007. Inseason action #4 modified the landing and possession limit in the area from Leadbetter Point, Washington to the U.S.-Canada border for Chinook from 30 to 20 fish per vessel per open period, Saturday through Tuesday. All other restrictions and regulations remained in effect as announced for the 2007 Ocean Salmon Fisheries and previous inseason actions.

DATES: Inseason action #3 in the area from Leadbetter Point to the U.S.-Canada border was effective from 0001 hours local time (l.t.) Saturday June 23 through 2359 hours l.t. Tuesday June 26, 2007. Also, inseason action #3 in the area from the U.S.-Canada border to Cape Falcon, Oregon was effective 0001 hours l.t. Saturday, June 30, 2007. Inseason action #4 was effective 0001 hours l.t. Saturday, July 28, 2007.

Comments will be accepted through October 16, 2007.

ADDRESSES: Comments on these actions must be mailed to D. Robert Lohn, Regional Administrator, Northwest Region, NMFS, 7600 Sand Point Way N.E., Bldg. 1, Seattle, WA 98115-0070; or faxed to 206-526-6376. Comments can also be submitted via e-mail at the 2007salmonIA3_4.nwr@noaa.gov address, or on the internet at the Federal eRulemaking Portal: http://www.regulations.gov. Follow the instructions for submitting comments, and include 0648-XB09 in the subject line of the message. Information relevant to this document is available for public review during business hours at the Office of the Regional Administrator, Northwest Region, NMFS.

FOR FURTHER INFORMATION CONTACT: Sarah McAvinchey 206-526-4323.

SUPPLEMENTARY INFORMATION: In the 2007 annual management measures for ocean salmon fisheries (72 FR 24539, May 3, 2007), NMFS announced the commercial fisheries in the area from the U.S.-Canada border to Cape Falcon, Oregon, and in the area from the U.S.-Canada border to Leadbetter Point, Washington. This area was open May 1 through earlier of June 30 or 10,850 Chinook quota. Beginning May 12, 2007 this area was open Saturday through Tuesday with a landing and possession limit of 60 Chinook per vessel for each four-day open period north of Leadbetter Point, for all salmon except coho.

On June 21, 2007, for Inseason action #3, and July 28, 2007 for Inseason action #4 the Regional Administrator (RA) consulted with representatives of the Pacific Fishery Management Council, Washington Department of Fish and Wildlife, and Oregon Department of Fish and Wildlife. Information related to catch to date, Chinook and coho catch rates, and effort data were reported. Inseason action #3 was taken because catch data indicated a reduction in the landing and possession limit would provide the opportunity for the full quota to be caught within the announced season. Eliminating the last day during the May-June open period also provided the opportunity for the next open period to begin within the quota. Inseason action #4 was taken because catch data indicated a reduction in the landing and possession limit would the opportunity for the full quota to be caught within the announced season.

As a result, on June 21, 2007, the states recommended, and the RA concurred, that Inseason action #3 would be effective in the area from Leadbetter Point to the U.S.-Canada border from Saturday June 23 through Tuesday June 26, 2007. This action made the landing and possession limit 50 Chinook per vessel per open period. This action also closed the area from the U.S.-Canada border to Cape Falcon Oregon to commercial salmon fishing on June 30. Also, on Friday July 27, 2007 the states recommended, and the RA concurred, that Inseason action #4 in the area from Leadbetter Point to the U.S.-Canada border would be effective Saturday July 28, 2007. This action reduced the landing and possession limit for Chinook to 20 fish per vessel per open period. Modification in quota and/or fishing seasons is authorized by regulations at 50 CFR 660.409(b)(1)(i).

The RA determined that the best available information indicated that the catch and effort data, and projections, supported the above inseason actions recommended by the states. The states manage the fisheries in state waters adjacent to the areas of the U.S. exclusive economic zone in accordance with these Federal actions. As provided by the inseason notice procedures of 50 CFR 660.411, actual notice of the described regulatory actions was given, prior to the date the action was effective, by telephone hotline number 206-526-6667 and 800-662-9825, and by U.S. Coast Guard Notice to Mariners broadcasts on Channel 16 VHF-FM and 2182 kHz. These actions do not apply to other fisheries that may be operating in other areas.

Classification

The Assistant Administrator for Fisheries, NOAA (AA), finds that good cause exists for this notification to be issued without affording prior notice and opportunity for public comment under 5 U.S.C. 553(b)(B) because such notification would be impracticable. As previously noted, actual notice of the regulatory actions was provided to fishers through telephone hotline and radio notification. These actions comply with the requirements of the annual management measures for ocean salmon fisheries (72 FR 24539, May 3, 2007), the West Coast Salmon Plan, and regulations implementing the West Coast Salmon Plan 50 CFR 660.409 and 660.411. Prior notice and opportunity for public comment was impracticable because NMFS and the state agencies had insufficient time to provide for prior notice and the opportunity for public comment between the time the fishery catch and effort data were collected to determine the extent of the fisheries, and the time the fishery modifications had to be implemented in order to allow fishers access to the available fish at the time the fish were available. The AA also finds good cause to waive the 30-day delay in effectiveness required under U.S.C. 553(d)(3), as a delay in effectiveness of these actions would limit fishers appropriately controlled access to available fish during the scheduled fishing season by unnecessarily restricting the fishery. These actions are authorized by 50 CFR 660.409 and 660.411 and are exempt from review under Executive Order 12866.

Authority: 16 U.S.C. 1801 et seq.

Dated: September 25, 2007.
James P. Burgess,
Acting Director, Office of Sustainable Fisheries, National Marine Fisheries Service.

[FR Doc. E7-19374 Filed 9-28-07; 8:45 am]

BILLING CODE 3510-22-S